SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB and to allow 60 days for public comment in response to the notice. This notice complies with that requirement.

DATES: Submit comments on or before January 15, 2021.

ADDRESSES: Send all comments by email to Lyn Womack, Chief, Funding Administration Branch, Office of Investment and Innovation, Small Business Administration, lyn.womack@sba.gov.

FOR FURTHER INFORMATION CONTACT: Lyn Womack, Chief, Funding Administration Branch, Office of Investment and Innovation, lyn.womack@sba.gov, 202-205-2416, or Curtis B. Rich, Management Analyst, 202-205-7030, curtis.rich@sba.gov.

SUPPLEMENTARY INFORMATION: Applicants for SBA-guaranteed leverage commitments must complete these forms as part of the application process. SBA uses the information to make informed and proper credit decisions and to establish the SBIC's eligibility for leverage and need for funds.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Collection: 3245-0081

(1) Title: Form 25 LLGP Model Limited Liability General Partner Certificate, Form 25 PCGP Model Resolution SBIC organized as Corporate General Partnership, Form 25 PC Model Resolution SBIC organized as Corporation, Form 33 Instructions for the Authorization to Disburse Proceeds, Form 34 Bank Identification, Form 1065 Applicant Licensee's Assurance of Compliance for the Public Interest.

Description of Respondents: Eligible SBICs.

Form Number: SBA Forms 25 LLGP, 25 PCGP, 25 PC, 33, 34, 1065.

Total Estimated Annual Responses: 60.

Total Estimated Annual Hour Burden: 50 minutes.

Curtis Rich,
Management Analyst.

[FR Doc. 2020-25196 Filed 11-13-20; 8:45 am]

BILLING CODE 8026-03-P